DEPARTMENT OF THE INTERIOR

Bureau of Land Management

[OR-936-1430-ET; HAG-05-0143; OR-59658]

Notice of Proposed Withdrawal and Opportunity for Public Meeting; Oregon

AGENCY: Bureau of Land Management, Interior.

ACTION: Notice.

SUMMARY: The Secretary of the Interior proposes to withdraw on behalf of the Bureau of Land Management, approximately 501.80 acres of public lands, for a period of 20 years, to protect the unique natural, scenic, and recreation values, along the Quartzville Creek Wild and Scenic River corridor in eastern Linn County, Oregon. This notice segregates the lands for up to 2 years from location and entry under the United States mining laws. The lands will remain open to the public land and mineral leasing laws.

DATES: Comments and requests for a public meeting must be received by December 27, 2005.

ADDRESSES: Comments and meeting requests should be sent to the Oregon/Washington State Director, BLM, P.O. Box 2965, Portland, Oregon 97208-2965.

FOR FURTHER INFORMATION CONTACT: Stuart Hirsh, BLM Salem District Office, (503) 375-5623, or Lakisha Sloan, BLM Oregon/Washington State Office, (503) 808-6595.

SUPPLEMENTARY INFORMATION: The applicant is the Bureau of Land Management at the address stated above. The petition/application requests the Secretary of the Interior to withdraw, for 20 years, the following described public lands from location and entry under the United States mining laws, subject to valid existing rights:

Willamette Meridian

T. 11 S., R. 3 E.,

Sec. 25, W½NE¼NW¼, S½NW¼NW¼, W½NW¼SW¼NW¼, NW¼SW¼NW¼, E½SW¼SW¼NW¼, SE¼SW¼NW¼, NE¼NW¼SW¼, E½NW¼NW¼SW¼, SW¼NW¼SW¼, N½SE¼NW¼SW¼, and W½W½SW¼SW¼;

Sec. 26, E½SE¼NE¼SE¼, E½NE¼SE¼SE¼, and SE¼SE¼SE¼;

Sec. 35, W½ lot 3, portion of W½E½ lot 3, NE¼NE¼NE¼, E½W½NE¼NE¼, W½SE¼NE¼NE¼, S½NE¼SW¼NE¼, SE¼SW¼NE¼, W½NE¼SE¼NE¼, NW¼SE¼NE¼, W½SW¼SE¼NE¼, SW¼NE¼SW¼, N½SE¼NE¼SW¼, SW¼SE¼NE¼SW¼, N½NW¼SE¼, and N½S½NW¼SE¼.

T. 12 S., R. 3 E.,

Sec. 2, portion of W½ lot 3, portion of lot 4, W½SW¼NW¼, and W½NW¼NW¼SW¼;

Sec. 3, SE¼ lot 1, N½NE¼SE¼NE¼, S½SE¼SE¼NE¼, NE¼SW¼SE¼,E½W½SW¼SE¼, and W½SE¼SW¼SE¼;

Sec. 9, E½NE¼NE¼SE¼, S½SW¼NE¼SW¼, SE¼NE¼SE¼, E½SE¼NW¼SE¼, E½NE¼SW¼SE¼, and SE¼SW¼SE¼;

Sec. 10, W½NE¼NW¼NE¼, NW¼NW¼NE¼, N½N½SW¼NW¼NE¼, S½N½NE¼NW¼, SW¼NE¼NW¼, N½N½SE¼NE¼NW¼, E½NE¼SW¼NW¼, S½SW¼SW¼NW¼, SE¼SW¼NW¼, NW¼SE¼NW¼W½SW¼SE¼NW¼, and N½N½NW¼SW¼.

The areas described aggregate 501.80 acres in Linn County.

The BLM petition/application has been approved by the Assistant Secretary, Land and Minerals Management. Therefore, it constitutes a withdrawal proposal of the Secretary of the Interior (43 CFR 2310.1-3(e)).

The use of right-of-way, interagency agreement, or cooperative agreement would not adequately constrain nondiscretionary uses which could irrevocably damage the area, threaten public health and safety, and eliminate the access of the public to mine recreationally.

There are not suitable alternative sites that can be considered because the lands described are entirely within the Quartzville Creek.

No water rights will be needed to fulfill the purpose of this withdrawal.

A preliminary mineral potential evaluation found the above described lands to have high potential for locatable placer gold deposits that would be uneconomical to develop. The management of the river corridor would allow for recreational mining.

The purpose of the proposed withdrawal would be to protect the unique natural, scenic, and recreational values along the Quartzville Creek Wild and Scenic River Corridor.

For a period of 90 days from the date of publication of this notice, all persons who wish to submit comments, suggestions, or objections in connection with the proposed withdrawal may present their views in writing, by the date specified above, to the BLM Oregon/Washington State Director at the address indicated above.

Comments, including names and street addresses of respondents, will be available for public view at the BLM Public Room Oregon/Washington State Office, 333 SW. 1st Ave, Portland, Oregon during regular business hours 8:30 a.m. to 4 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested parties who desire a public meeting for the purpose of being heard on the proposed withdrawal must submit a written request to the BLM Oregon/Washington State Director at the address indicated above within 90 days from the publication of this notice. Upon determination by the authorized officer that a public meeting will be held, a notice of the time and place will be published in the Federal Register at least 30 days before the scheduled date of the meeting.

The withdrawal proposal will be processed in accordance with the regulations set forth in 43 CFR 2300.

For a period of 2 years from the date of publication of this notice in the Federal Register, the lands will be segregated as specified above unless the application is denied or canceled or the withdrawal is approved prior to that date. The temporary land uses which may be permitted during this segregative period include licenses, permits, rights-of-way, and disposal of vegetative resources other than under the mining laws.

(Authority: 43 CFR 2310.3-1(a))

Dated: September 19, 2005.
Robert D. DeViney, Jr.,
Chief, Branch of Land and Mineral Resources.

[FR Doc. 05-19132 Filed 9-23-05; 8:45 am]

BILLING CODE 4310-33-P